COMMITTEE FOR PURCHASE FROM PEOPLE WHO ARE BLIND OR SEVERELY DISABLED

Procurement List; Proposed Deletions

AGENCY: Committee for Purchase From People Who Are Blind or Severely Disabled.

ACTION: Proposed Deletions from the Procurement List.

SUMMARY: The Committee is proposing to delete products and services on the Procurement List furnished by nonprofit agencies employing persons who are blind or have other severe disabilities.

DATES: Comments must be received on or before: August 23, 2020.

ADDRESSES: Committee for Purchase From People Who Are Blind or Severely Disabled, 1401 S. Clark Street, Suite 715, Arlington, Virginia, 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products and services are proposed for deletion from the Procurement List:

Products

NSN(s)—Product Name(s):

8415-01-587-9853—Drawers, Underwear, Midweight Fire Retardant, FREE, Army, Desert Sand, XSS

8415-01-587-9855—Drawers, Underwear, Midweight Fire Retardant, FREE, Army, Desert Sand, XSR

8415-01-587-9858—Drawers, Underwear, Midweight Fire Retardant, FREE, Army, Desert Sand, XSL

8415-01-587-9863—Drawers, Underwear, Midweight Fire Retardant, FREE, Army, Desert Sand, SS

8415-01-587-9866—Drawers, Underwear, Midweight Fire Retardant, FREE, Army, Desert Sand, SR

8415-01-588-0254—Drawers, Underwear, Midweight Fire Retardant, FREE, Army, Desert Sand, SL

8415-01-588-0259—Drawers, Underwear, Midweight Fire Retardant, FREE, Army, Desert Sand, MS

8415-01-588-0261—Drawers, Underwear, Midweight Fire Retardant, FREE, Army, Desert Sand, MR

8415-01-588-0269—Drawers, Underwear, Midweight Fire Retardant, FREE, Army, Desert Sand, ML

8415-01-588-0270—Drawers, Underwear, Midweight Fire Retardant, FREE, Army, Desert Sand, LS

8415-01-588-0273—Drawers, Underwear, Midweight Fire Retardant, FREE, Army, Desert Sand, LR

8415-01-588-0283—Drawers, Underwear, Midweight Fire Retardant, FREE, Army, Desert Sand, LL

8415-01-588-0290—Drawers, Underwear, Midweight Fire Retardant, FREE, Army, Desert Sand, XLS

8415-01-588-0292—Drawers, Underwear, Midweight Fire Retardant, FREE, Army, Desert Sand, XLR

8415-01-588-0300—Drawers, Underwear, Midweight Fire Retardant, FREE, Army, Desert Sand, XLL

8415-01-588-0308—Drawers, Underwear, Midweight Fire Retardant, FREE, Army, Desert Sand, XXLS

8415-01-588-0313—Drawers, Underwear, Midweight Fire Retardant, FREE, Army, Desert Sand, XXLR

8415-01-588-0315—Drawers, Underwear, Midweight Fire Retardant, FREE, Army, Desert Sand, XXLL

Mandatory Source of Supply: New Horizons Rehabilitation Services, Inc., Auburn Hills, MI

Contracting Activity: W6QK ACC-APG Natick, Natick, MA

NSN(s)—Product Name(s):

8415-01-548-7187—Shirt, Combat, Advanced, Foliage Green, X-Small

8415-01-548-7201—Shirt, Combat, Advanced, Foliage Green, Small

8415-01-548-7206—Shirt, Combat, Advanced, Foliage Green, Medium

8415-01-548-7209—Shirt, Combat, Advanced, Foliage Green, Large

8415-01-548-7215—Shirt, Combat, Advanced, Foliage Green, XX-Large

8415-01-548-7232—Shirt, Combat, Advanced, Foliage Green, X-Large

8415-01-548-7236—Shirt, Combat, Advanced, Foliage Green, XXX-Large

Mandatory Source of Supply: Alphapointe, Kansas City, MO; Goodwill Industries of South Florida, Inc., Miami, FL; Mount Rogers Community Services Board, Wytheville, VA; San Antonio Lighthouse for the Blind, San Antonio, TX; Southeastern Kentucky Rehabilitation Industries, Inc., Corbin, KY; Winston-Salem Industries for the Blind, Inc., Winston-Salem, NC

Contracting Activity: W6QK ACC-APG Natick, Natick, MA

NSN(s)—Product Name(s):

8415-01-580-4831—Shirt, Combat, Flame Resistant, OEF Camouflage, X-Small

8415-01-580-4836—Shirt, Combat, Flame Resistant, OEF Camouflage, Small

8415-01-580-4853—Shirt, Combat, Flame Resistant, OEF Camouflage, Medium

8415-01-580-4856—Shirt, Combat, Flame Resistant, OEF Camouflage, Large

8415-01-580-4863—Shirt, Combat, Flame Resistant, OEF Camouflage, X-Large

8415-01-580-4865—Shirt, Combat, Flame Resistant, OEF Camouflage, XX-Large

8415-01-580-4870—Shirt, Combat, Flame Resistant, OEF Camouflage, XXX-Large

Mandatory Source of Supply: Alphapointe, Kansas City, MO; Goodwill Industries of South Florida, Inc., Miami, FL; Mount Rogers Community Services Board, Wytheville, VA; San Antonio Lighthouse for the Blind, San Antonio, TX; Southeastern Kentucky Rehabilitation Industries, Inc., Corbin, KY; Winston-Salem Industries for the Blind, Inc., Winston-Salem, NC

Contracting Activity: W6QK ACC-APG NATICK, NATICK, MA

NSN(s)—Product Name(s):

MR 1013—Set, Dustpan and Broom, Long Handle

Mandatory Source of Supply: LC Industries, Inc., Durham, NC

Contracting Activity: Defense Commissary Agency, Fort Lee, VA

NSN(s)—Product Name(s):

MR 388—Lint Roller

MR 389—Lint Roller Refill

Mandatory Source of Supply: Alphapointe, Kansas City, MO

Contracting Activity: Military Resale-Defense Commissary Agency

NSN(s)—Product Name(s):

MR 1011—Mini Duster, Chenille Microfiber, Red

Mandatory Source of Supply: Industries for the Blind and Visually Impaired, Inc., West Allis, WI

Contracting Activity: Military Resale-Defense Commissary Agency

Services

Service Type: Base Supply Center

Mandatory for: US Air Force, Elmendorf AFB, Joint Base Elmendorf-Richardson, AK

Mandatory Source of Supply: RLCB, Inc., Raleigh, NC

Contracting Activity: Federal Acquisition Service, GSA/FAS

Service Type: Recycling Service

Mandatory for: Scott Air Force Base (Basewide): 375th CONS/LGC 201 E Winters Street, Bldg. 50, Scott AFB, IL

Mandatory Source of Supply: Challenge Unlimited, Inc., Alton, IL

Contracting Activity: Dept of the Air Force, FA4407 375 CONS LGC

Service Type: Grounds Maintenance

Mandatory for: DC Air National Guard, Andrews AFB, MD

Mandatory Source of Supply: Melwood Horticultural Training Center, Inc., Upper Marlboro, MD

Contracting Activity: Dept of the Air Force, FA7014 AFDW PK

Michael R. Jurkowski,
Deputy Director, Business & PL Operations.

[FR Doc. 2020-16088 Filed 7-23-20; 8:45 am]

BILLING CODE 6353-01-P